DEPARTMENT OF ENERGY

Federal Energy Regulatory Commission

Notice of Petition for Declaratory Order and Soliciting Comments, Motions To Intervene, and Protests

March 21, 2002.

Take notice that the following application has been filed with the Commission and is available for public inspection:

a. Application Type: Petition for Declaratory Order

b. Project No: DI02-2-000

c. Date Filed: March 5, 2002

d. Applicant: Sheldon Jackson College

e. Name of Project: Indian River Project

f. Location: The project is located on the Indian River at Sitka Sound, in Sitka, Alaska, at T. 56 S., R. 63 E. This project will not occupy Federal or Tribal lands.

g. Filed Pursuant to: Section 23(b)(1) of the Federal Power Act, 16 U.S.C. § § 817 (b).

h. Applicant Contact: Donald H. Clarke, Law Offices of GKRSE, 1500 K Street, NW., Suite 330, Washington, DC 20005, telephone (202) 408-5400.

i. FERC Contact: Any questions on this notice should be addressed to Henry Ecton (202) 219-2678, or e-mail address: henry.ecton@ferc.gov

j. Deadline for filing comments and or motions: April 22, 2002

All documents (original and eight copies) should be filed with: Magalie R. Salas, Secretary, Federal Energy Regulatory Commission, 888 First Street, NE., Washington DC 20426. Comments, protests, and interventions may be filed electronically via the Internet in lieu of paper. Any questions, please contact the Secretary's Office. See, 18 CFR 385.2001(a)(1)(iii) and the instructions on the Commission's web site at http://www.ferc.gov.

Please include the docket number (DI02-2-000) on any comments or motions filed.

k. Description of Project: The Indian River Project, a run-of-river development, owned and operated by Sheldon Jackson College, consists of: (1) a reservoir with a surface area of approximately 1 acre; (2) a 10-foot-high, 110-foot-long, low-head rock-filled dam; (3) a reinforced concrete intake structure; (4) a 1,000-foot-long, 42-inch-diameter steel diversion flume; (5) a screened diversion weir in an unlined canal which diverts water into a 900-foot-long, 42-inch-diameter buried wood-stave pipeline; (6) a powerhouse containing a 75-kilowatt generator; (7) a concrete tailrace discharging through two fish broodstock pens into Crescent Bay; and (8) appurtenant facilities.

When a Petition for Declaratory Order is filed with the Federal Energy Regulatory Commission, the Federal Power Act requires the Commission to investigate and determine if the interests of interstate or foreign commerce would be affected by the project. The Commission also determines whether or not the project: (1) would be located on a navigable waterway; (2) would occupy or affect public lands or reservations of the United States; (3) would utilize surplus water or water power from a government dam; or (4) if applicable, has involved or would involve any construction subsequent to 1935 that may have increased or would increase the project's head or generating capacity, or have otherwise significantly modified the project's pre-1935 design or operation.

l. Locations of the Application: A copy of the application is available for inspection and reproduction at the Commission's Public Reference Room, located at 888 First Street, NE, Room 2A, Washington, D.C. 20426, or by calling (202) 208-1371. This filing may also be viewed on the web at http://www.ferc.gov using the “RIMS” link, select “Docket#” and follow the instructions (call 202-208-2222 for assistance).

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Docket Number of the particular application to which the filing refers. A copy of any motion to intervene must also be served upon each representative of the Applicant specified in the particular application.

p. Agency Comments—Federal, state, and local agencies are invited to file comments on the described application. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link.

Linwood A. Watson, Jr.,
Deputy Secretary.

[FR Doc. 02-7305 Filed 3-26-02; 8:45 am]

BILLING CODE 6717-01-P